DEPARTMENT OF TRANSPORTATION

Federal Motor Carrier Safety Administration

[Docket No. FMCSA-2015-0083]

Agency Information Collection Activities; Revision of a Currently-Approved Information Collection: Licensing Applications for Motor Carrier Operating Authority

AGENCY: Federal Motor Carrier Safety Administration (FMCSA), DOT.

ACTION: Notice and request for information.

SUMMARY: In accordance with the Paperwork Reduction Act of 1995, FMCSA announces its plan to submit the Information Collection Request (ICR) described below to the Office of Management and Budget (OMB) for its review and approval. The FMCSA seeks approval to revise an ICR titled, “Licensing Applications for Motor Carrier Operating Authority,” that is used by for-hire motor carriers of regulated commodities, motor passenger carriers, freight forwarders, property brokers, and certain Mexico-domiciled motor carriers to register their operations with the FMCSA. The agency invites public comment on the ICR.

DATES: We must receive your comments on or before June 2, 2015.

ADDRESSES: You may submit comments identified by Federal Docket Management System (FDMS) Docket Number FMCSA-2015-0083 using any of the following methods:

• Federal eRulemaking Portal: http://www.regulations.gov. Follow the online instructions for submitting comments.

• Fax: 1-202-493-2251.

• Mail: Docket Management Facility; U.S. Department of Transportation, 1200 New Jersey Avenue SE., West Building, Ground Floor, Room W12-140, 20590-0001.

• Hand Delivery or Courier: West Building, Ground Floor, Room W12-140, 1200 New Jersey Avenue SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Ms. Vivian Oliver, Transportation Specialist, Office of Information Technology, Information Technology Operations Division, Department of Transportation, Federal Motor Carrier Safety Administration, 6th Floor, West Building, 1200 New Jersey Ave. SE., Washington DC 20590, Telephone Number (202) 366-2974; Email Address vivian.oliver@dot.gov. Office hours are from 9:00 a.m. to 5:00 p.m., Monday through Friday, except Federal Holidays.

SUPPLEMENTARY INFORMATION:

Background: The FMCSA is authorized to register certain for-hire Mexico-domiciled long-haul motor carriers of regulated commodities under the provisions of 49 U.S.C. 13902 and the North American Free Trade Agreement (NAFTA) motor carrier access provision. The Form OP-1(MX) is used by FMCSA to register those Mexico-domiciled motor carriers. It requests information on the applicant's identity, location, familiarity with safety requirements, and type of proposed operations. This ICR is being revised due to a Final Rule titled, “the Unified Registration System,” (78 FR 52608), dated August 23, 2013, that will incorporate all registration form requirements included in this ICR, except the Form OP-1(MX), into the Form MCSA-1 in the OMB Control Number 2126-0051, “FMCSA Registration/Updates,” ICR effective October 23, 2015. The Form OP-1(MX) was excluded from the Form MCSA-1 because its information collection requirements are beyond the scope of the Unified Registration System Final Rule.

Title: Licensing Applications for Motor Carrier Operating Authority.

OMB Control Number: 2126-0016.

Type of Request: Revision of a currently-approved information collection.

Respondents: Certain Mexico-domiciled motor carriers.

Estimated Number of Respondents: 12.

Estimated Time per Response: 4 hours to complete Form OP-1 (MX).

Expiration Date: October 31, 2015.

Frequency of Response: Other (as needed).

Estimated Total Annual Burden: 48 hours [12 annual Form OP-(MX) responses x 4 hours to complete each response = 48].

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the information collected. The Agency will summarize or include your comments in the request for OMB's clearance of this ICR.

Issued under the authority of 49 CFR 1.87 on: March 26, 2015.
G. Kelly Regal,
Associate Administrator for Office of Research and Information Technology and Chief Information Officer.

[FR Doc. 2015-07675 Filed 4-2-15; 8:45 am]

BILLING CODE 4910-EX-P